DEPARTMENT OF JUSTICE

Drug Enforcement Administration

Importer of Controlled Substances; Notice of Registration

By Notice dated February 19, 2002, and published in the Federal Register on March 5, 2002, (67 FR 9988), ISP Freetown Fine Chemicals, Inc., 238 South Main Street, Assonet, Massachusetts 02702, made application to the Drug Enforcement Administration (DEA) to be registered as an importer of phenylacetone (8501), a basic class of controlled substance listed in Schedule II.

The firm plans to import the phenylacetone to manufacture amphetamine.

Objections and a request for hearing were timely filed and then withdrawn. DEA has considered the factors in Title 21, United States Code, 823(a) and determined that the registration of ISP Freetown Fine Chemicals, Inc., is consistent with the public interest and with United States obligations under international treaties, conventions, or protocols in effect on May 1, 1971, at this time. DEA has investigated ISP Freeman Fine Chemicals, Inc. to ensure that the company's continued registration is consistent with the public interest. This investigation included inspection and testing of the company's physical security systems, certification of the company's compliance with state and local laws, and a review of the company's background and history. Therefore, pursuant to section 1008(a) of the Controlled Substances Import and Export Act and in accordance with title 21, Code of Federal Regulations, section 1301.34, the above firm is granted registration as an importer of the basic class of controlled substance listed above.

Dated: March 14, 2003.
Laura M. Nagel,
Deputy Assistant Administrator, Office of Diversion Control, Drug Enforcement Administration.

[FR Doc. 03-7835 Filed 4-1-03; 8:45 am]

BILLING CODE 4410-09-M